DEPARTMENT OF TRANSPORTATION

National Highway Traffic Safety Administration

[Docket No. NHTSA 2003-14880]

Cancellation of Public Meeting Regarding NHTSA's Initial Decision That Certain Motorcycle Helmets Manufactured by NexL Sports Products Fail To Comply With Federal Motor Vehicle Safety Standard No. 218

AGENCY: National Highway Traffic Safety Administration (NHTSA), DOT.

ACTION: Cancellation of Public Meeting.

SUMMARY: NHTSA has cancelled the public meeting scheduled for June 27, 2003 regarding its Initial Decision that NexL Sports Products (NexL) “Beanie DOT Motorcycle Helmets” (model 02) fail to comply with Federal Motor Vehicle Safety Standard (FMVSS) No. 218, Motorcycle Helmets. NHTSA has also cancelled the hearing to determine if NexL's remedy for the noncompliance of its model 01 helmets with FMVSS No. 218 was adequate.

FOR FURTHER INFORMATION CONTACT: George Gillespie, National Highway Traffic Safety Administration, 400 Seventh Street, SW., Washington, DC 20590; (202) 366-5299. NHTSA's Initial Decision, and the information on which it is based, are available at NHTSA's Technical Information Services, Room 5111, 400 Seventh Street, SW., Washington, DC 20590; Telephone: 202-366-2588. When visiting Technical Information Services or contacting it via the telephone, refer to Investigation File CI-218-020612.

SUPPLEMENTARY INFORMATION: On April 11, 2003, NHTSA published a Notice in the Federal Register that it would hold a public meeting regarding its Initial Decision that model 02 motorcycle helmets manufactured by NexL Sports Products (NexL) fail to comply with Federal Motor Vehicle Safety Standard (FMVSS) No. 218, Motorcycle Helmets, 49 CFR 571.218 and a hearing to determine whether the remedy provided by NexL to address a noncompliance in its model 01 helmets was adequate. 68 FR 17857 (April 11, 2003). That public meeting and the associated remedy adequacy hearing were rescheduled for June 27, 2003. NexL has submitted a 49 CFR part 573 noncompliance report stating that its Model 02 helmets fail to comply with FMVSS 218 and that it will provide a free remedy at no charge. In addition, NexL has agreed that its remedy campaign will include the remedy for the noncompliance of its model 01 helmets. As a result of that submission, the public meeting is moot and has been cancelled.

Authority: 49 U.S.C. 30118(a), (b), and 49 U.S.C. 30120(c), (e); delegations of authority at 49 CFR 1.50(a) and 49 CFR 501.8.

Issued on: June 18, 2003.
Kenneth N. Weinstein,
Associate Administrator for Enforcement.

[FR Doc. 03-15876 Filed 6-19-03; 12:45 pm]

BILLING CODE 4910-59-P